GENERAL SERVICES ADMINISTRATION

[OMB Control No. 3090-0163; Docket No. 2023-0001; Sequence No. 5]

Submission for OMB Review; General Services Administration Acquisition Regulation; Contract Solicitation Information

AGENCY: Office of Acquisition Policy, General Services Administration (GSA).

ACTION: Notice of request for comments regarding an extension to an existing OMB information collection.

SUMMARY: Under the provisions of the Paperwork Reduction Act, the Regulatory Secretariat Division will be submitting to the Office of Management and Budget (OMB) a request to review and approve an extension of a previously approved information collection regarding GSA solicitations issued for various supplies and services.

DATES: Submit comments on or before: February 28, 2024.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Mr. Clarence Harrison, Procurement Analyst, at GSARPolicy@gsa.gov or 202-227-7051.

SUPPLEMENTARY INFORMATION:

A. Purpose

GSA requires organizations desiring to do business with GSA for various supplies and services to provide procurement-related information through solicitations issued in accordance with the Federal Acquisition Regulation (FAR) Part 12, 14, 15 and 16 procedures. Using solicitation methods such as Requests for Proposals (RFP), Requests for Information (RFI), and Broad Agency Announcements (BAA), GSA requests information from prospective offerors such as pricing information, delivery schedule compliance, and evidence that the offeror has the resources (both human and financial) to accomplish requirements. Much of the solicitation information collected is covered by FAR clauses and the separate information collection approvals associated with them. Other GSA solicitation requirements call for more detailed or technical information to be provided, such as project management or sustainability plans, and drive the need for this information collection.

B. Annual Reporting Burden

Respondents: 338,465.

Responses per Respondent: 1.

Total Responses: 338,465.

Hours per Response: 2.

Total Burden Hours: 676,930.

C. Public Comments

A 60-day notice published in the Federal Register at 88 FR 81083 on November 21, 2023. No comments were received.

Obtaining Copies of Proposals: Requesters may obtain a copy of the information collection documents from the Regulatory Secretariat Division, at GSARegSec@gsa.gov. Please cite OMB Control No. 3090-0163, Contract Solicitation Information, in all correspondence.

Jeffrey A. Koses,
Senior Procurement Executive, Office of Acquisition Policy, Office of Government-wide Policy.

[FR Doc. 2024-01697 Filed 1-26-24; 8:45 am]

BILLING CODE 6820-14-P